DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. the investigations will further relate, as appropriate to the determination of the date on which total or partial separations began or threatened to begin and the subdivision of the firm involved.

The petitioners or any other persons showing a substantial interest in the subject matter of the investigations may request a public hearing, provided such request is filed in writing with the Director, Division of Trade Adjustment Assistance, at the addres shown below, not later than June 26, 2000.

Interested persons are invited to submit written comments regarding the subject matter of the investigations to the Director, Division of Trade Adjustment Assistance, at the address shown below, not later than June 26, 2000.

The petitions filed in the this case are available for inspection at the Office of the Director, Division of Trade Adjustment Assistance, Employment and Training Administration, U.S. Department of Labor, 200 Constitution Avenue, NW., Washington, DC 20210.

Signed at Washington, DC, this 30th day of May, 2000.
Grant D. Beale,
Program Manager, Division of Trade Adjustment Assistance.

Appendix.—Petitions Instituted on 05/30/2000
TA-W | Subject firm (Petitioners) | Location | Date of petition | Product(s)
37,713 | Vinson Timber Products (Comp) | Trout Creek, MT | 05/12/2000 | Lumber Studs.
37,714 | Gambro Renal Products (Comp) | Lakewood, CO | 05/11/2000 | Kidney Dialysis Machines.
37,715 | Murray, Inc. (UAW) | Lawrenceburg, TN | 05/11/2000 | Bicycles, Lawn Mowers.
37,716 | Brunswick Bicycles (Comp) | Balmorhea, TX | 05/10/2000 | Bicycles.
37,717 | CV Materials Ltd (Wrks) | Urbana, OH | 05/16/2000 | Frit and Mill Products
37,718 | Robertson World Wide (UAW) | Rochester, IN | 05/12/2000 | Electronic Boards.
37,719 | Southland Mfg/Skilstaf (Comp) | Ashland, AL | 05/15/2000 | Men's Slacks.
37,720 | Doe Run Resources Corp (Comp) | Viburmum, MO | 05/17/2000 | Lead Mining, Smelting.
37,721 | OshKosh B'Gosh, Inc (Wrks) | Jamestown, TN | 05/18/2000 | Boy's and Girl's Knit Shirts.
37,722 | Pro-Emp Solutions (Comp) | Odessa, TX | 05/16/2000 | Staff Leasing Service.
37,723 | Glove Corp. (The) (Comp) | Calico Rock, AR | 05/15/2000 | Leather Work Gloves
37,724 | Volex, Inc., Power Cord (Comp) | Clinton, AR | 05/12/2000 | Power Cords.
37,725 | Cadillac Curtain Corp (Wrks) | Dyer, TN | 05/10/2000 | Curtains—Kitchen and Livingroom.
37,726 | Zebco (Comp) | Tulsa, OK | 05/04/2000 | Fishing Tackle.
37,727 | Seton Company (Wrks) | El Paso, TX | 05/18/2000 | Leather Pieces for Car Seats.
37,728 | Hill Knitting Mill (Comp) | Richmond Hill, NY | 05/18/2000 | Fabric.
37,729 | Biljo, Inc. (Comp) | Dublin, GA | 05/22/2000 | Men's and Boy's slacks.
37,730 | Artesyn Technologies (Wrks) | Broomfield, CO | 05/16/2000 | Power Supplies.
37,731 | Cupples Rubber Co. (Comp) | St. Louis, MO | 05/17/2000 | Rubber Inner Tubes for Tires.
37,732 | Choctaw Miad Farms (Wrks) | Newton, MS | 05/16/2000 | Hatches Chicken Eggs.
37,733 | L. Peter Larson Co. (Comp) | Olney, MT | 05/19/2000 | Raw Logs.
37,734 | Glacier Gold Compost (Comp) | Olney, MT | 05/19/2000 | Compost, Potting Soil, Mulch.
37,735 | IBM Corp. (Wrks) | Rochester, MN | 05/04/2000 | Nickel and Glass Substrate.

[FR Doc. 00-15141 Filed 6-14-00; 8:45 am]

BILLING CODE 4510-30-M